DEPARTMENT OF LABOR

Employment and Training Administration

[TA-W-59,219]

Action Staffing; A Subdivision of American Services Working On-Site at Westpoint Stevens, Inc. Now Known as Westpoint Home, Inc.; Bed Products Division Clemson, SC; Notice of Termination of Investigation

Pursuant to Section 221 of the Trade Act of 1974, as amended, an investigation was initiated on April 14, 2006 in response to a worker petition filed by a state agency on behalf of workers at Action Staffing, a subdivision of American Services, working on-site at WestPoint Stevens, Inc., now known as WestPoint Home, Inc., Bed Products Division, Clemson, South Carolina.

The petitioning group of workers is covered by an active certification, (TA-W-56,333) which expires on February 9, 2007. Consequently, further investigation in this case would serve no purpose, and the investigation has been terminated.

Signed at Washington, DC this 3rd day of May, 2006.
Elliot S. Kushner,
Certifying Officer, Division of Trade Adjustment Assistance.

[FR Doc. E6-7514 Filed 5-16-06; 8:45 am]

BILLING CODE 4510-30-P